DEPARTMENT OF HOMELAND SECURITY

Federal Emergency Management Agency

[Docket ID FEMA-2024-0002; Internal Agency Docket No. FEMA-B-2444]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before October 15, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2444, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

Community | Community map repository address
Anderson County, Kentucky and Incorporated Areas
Project: 22-04-0013S Preliminary Date: March 27, 2024
City of Lawrenceburg | City Hall, 100 North Main Street, Lawrenceburg, KY 40342.
Unincorporated Areas of Anderson County | Lawrenceburg City Hall, 100 North Main Street, Lawrenceburg, KY 40342.
Boyle County, Kentucky and Incorporated Areas
Project: 22-04-0013S Preliminary Date: March 27, 2024
Unincorporated Areas of Boyle County | Boyle County Government Services Center, 1858 South Danville Bypass, Danville, KY 40422.
Bullitt County, Kentucky and Incorporated Areas
Project: 22-04-0013S Preliminary Date: March 27, 2024
City of Fox Chase | Bullitt County Nina Mooney Annex Building, 149 North Walnut Street, 3rd Floor, Shepherdsville, KY 40165.
City of Hebron Estates | Hebron Estates Community Center, 3407 Burkland Boulevard, Shepherdsville, KY 40165.
City of Hillview | Hillview City Office, 283 Crestwood Lane, Louisville, KY 40229.
City of Mount Washington | City Hall, 311 Snapp Street, Mount Washington, KY 40047.
City of Pioneer Village | Pioneer Village City Hall, 4700 Summitt Drive, Louisville, KY 40229.
City of Shepherdsville | Government Center, 634 Conestoga Parkway, Shepherdsville, KY 40165.
Unincorporated Areas of Bullitt County | Bullitt County Nina Mooney Annex Building, 149 North Walnut Street, 3rd Floor, Shepherdsville, KY 40165.
Hardin County, Kentucky and Incorporated Areas
Project: 22-04-0013S Preliminary Date: March 27, 2024
City of Radcliff | City Hall, 411 West Lincoln Trail Boulevard, Radcliff, KY 40160.
City of West Point | City Hall, 509 Elm Street, West Point, KY 40177.
Unincorporated Areas of Hardin County | Hardin County Government Center, 150 North Provident Way, Suite 223, Elizabethtown, KY 42701.
Henry County, Kentucky and Incorporated Areas
Project: 22-04-0013S Preliminary Date: March 27, 2024
Unincorporated Areas of Henry County | Henry County Planning and Zoning Department, 19 South Property Road, New Castle, KY 40050.
Mercer County, Kentucky and Incorporated Areas
Project: 22-04-0013S Preliminary Date: March 27, 2024
City of Harrodsburg | The Greater Harrodsburg/Mercer County Planning and Zoning Commission, 109 Short Street, Number 1, Harrodsburg, KY 40330.
Unincorporated Areas of Mercer County | The Greater Harrodsburg/Mercer County Planning and Zoning Commission, 109 Short Street, Number 1, Harrodsburg, KY 40330.
Nelson County, Kentucky and Incorporated Areas
Project: 22-04-0013S Preliminary Date: March 27, 2024
City of Bardstown | Nelson County Joint City-County Planning Commission, 129 Parkway Drive, Bardstown, KY 40004.
City of Bloomfield | Nelson County Joint City-County Planning Commission, 129 Parkway Drive, Bardstown, KY 40004.
Unincorporated Areas of Nelson County | Nelson County Joint City-County Planning Commission, 129 Parkway Drive, Bardstown, KY 40004.
Oldham County, Kentucky and Incorporated Areas
Project: 22-04-0013S Preliminary Date: March 27, 2024
City of Crestwood | Oldham County Planning and Zoning Department, 100 West Jefferson Street, La Grange, KY 40031.
City of La Grange | Oldham County Planning and Zoning Department, 100 West Jefferson Street, La Grange, KY 40031.
Unincorporated Areas of Oldham County | Oldham County Planning and Zoning Department, 100 West Jefferson Street, La Grange, KY 40031.
Shelby County, Kentucky and Incorporated Areas
Project: 22-04-0013S Preliminary Date: March 27, 2024
City of Shelbyville | Public Works Department, 787 Kentucky Street, Shelbyville, KY 40065.
City of Simpsonville | City Hall, 108 Old Veechdale Road, Simpsonville, KY 40067.
Unincorporated Areas of Shelby County | Shelby County Courthouse, 501 Main Street, Shelbyville, KY 40065.
Spencer County, Kentucky and Incorporated Areas
Project: 22-04-0013S Preliminary Date: March 27, 2024
City of Taylorsville | Spencer County Planning and Zoning, 220 Main Cross, Taylorsville, KY 40071.
Unincorporated Areas of Spencer County | Spencer County Planning and Zoning, 220 Main Cross, Taylorsville, KY 40071.
Bollinger County, Missouri and Incorporated Areas
Project: 19-07-0065S Preliminary Date: August 16, 2023
City of Marble Hill | City Hall, 305 1st Street, Marble Hill, MO 63764.
Unincorporated Areas of Bollinger County | Bollinger County Courthouse, 204 High Street, Suite #5, Marble Hill, MO 63764.
Village of Glen Allen | Municipal Hall, 19129 Short Street, Glen Allen, MO 63751.
Village of Sedgewickville | Bollinger County Courthouse, 204 High Street, Suite #5, Marble Hill, MO 63764.
Nuckolls County, Nebraska and Incorporated Areas
Project: 23-07-0003S Preliminary Date: January 31, 2024
City of Nelson | City Office, 580 South Main Street, Nelson, NE 68961.
Unincorporated Areas of Nuckolls County | Nuckolls County Courthouse, 150 South Main Street, Nelson, NE 68691.
Village of Oak | Village of Oak Clerk's Office, 24 South Nevada Street, Nelson, NE 68961.

[FR Doc. 2024-15385 Filed 7-12-24; 8:45 am]

BILLING CODE 9110-12-P